DEPARTMENT OF HEALTH AND HUMAN SERVICES

National Institutes of Health

National Cancer Institute; Amended Notice of Meeting

Notice is hereby given of a change in the meeting of the Subcommittee G—Education, June 16, 2004, 8 a.m. to June 18, 2004, 5 p.m., Sheraton Suites Alexandria, 801 North Saint Asaph Street, Alexandria, VA, 22314 which was published in the Federal Register on June 2, 2004, 69 FR 104.

The meeting is amended to change the end date from 6/18/2004 to 6/17/2004. The meeting is closed to the public.

Dated: June 9, 2004.
LaVerne Y. Stringfield,
Director, Office of Federal Advisory Committee Policy.

[FR Doc. 04-13664 Filed 6-16-04; 8:45 am]

BILLING CODE 4140-01-M